DEPARTMENT OF TRANSPORTATION

Federal Highway Administration

Rescission of Record of Decision and Final Environmental Impact Statement: La Crosse County, Wisconsin

AGENCY: Federal Highway Administration (FHWA), Department of Transportation (DOT).

ACTION: Notice to rescind the Record of Decision (ROD) and the Final Environmental Impact Statement (FEIS).

SUMMARY: The FHWA, in cooperation with the Wisconsin Department of Transportation (WisDOT), is issuing this notice to advise the public that we are rescinding the 1998 Record of Decision (ROD) and the Final Environmental Impact Statement (FEIS) that proposed various improvements along north-south corridors in La Crosse County, WI.

FOR FURTHER INFORMATION CONTACT:

Lisa Hemesath, Environmental Protection Specialist, Federal Highway Administration, 525 Junction Road, Suite 8000, Madison, Wisconsin, 53717-2157, Telephone: (608) 829-7503.

Barry Paye, Director, Bureau of Technical Services, Wisconsin Department of Transportation, 4822 Madison Yards Way, 5th Floor, Madison, WI 53705, Telephone: (608) 246-7945.

SUPPLEMENTARY INFORMATION: The FHWA, as the lead Federal agency, in cooperation with the WisDOT, is rescinding the ROD and the FEIS that proposed various improvements along north-south corridors in La Crosse County, WI. The purpose and need of the FEIS were to develop transportation corridors that supported all transportation users, supported economic growth, and met forecasted transportation demand. The Notice of Intent (NOI) to prepare the EIS was published in the Federal Register on July 27, 1995. The FEIS was approved on January 7, 1998. The ROD was issued on May 22, 1998. The FHWA has determined, in conjunction with WisDOT, that the ROD and the FEIS for the project shall be rescinded for the following reasons: a lack of support from the public and stakeholders, anticipated development in the corridor has not occurred and forecasted travel demand hasn't been realized.

Any future Federal-aided action within this corridor will comply with environmental review requirements of the National Environmental Policy Act (NEPA) (42 U.S.C. 4321), FHWA environmental regulations (23 CFR part 771) and related authorities, as appropriate. Comments and questions concerning this action should be directed to FHWA or WisDOT at the addresses provided above.

Glenn Fulkerson,
Division Administrator, FHWA Wisconsin Division, Madison, WI.

[FR Doc. 2024-14993 Filed 7-8-24; 8:45 am]

BILLING CODE 4910-RY-P